FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012204-001.

Title: ELJSA-Hanjin Shipping Slot Exchange Agreement.

Parties: Evergreen Line Joint Service Agreement and Hanjin Shipping Co. Ltd.

Filing Party: Paul M. Keane, Esq.; Cichanowicz, Callan, Keane, Vengrow and Textor, LLP; 61 Broadway, Suite 3000; New York, NY 10006.

Synopsis: The amendment reflects the removal from the Agreement of the exchange of slots from specific services that are now included in ELJSA/Hanjin Shipping Vessel Sharing Agreement No. 012226, and reflects the resultant overall reduction in number of slots exchanged and tonnage in Agreement No. 012204.

Agreement No.: 012169-001.

Title: Crowley/ELJSA Space Charter Agreement.

Parties: Crowley Latin America Services, LLC and Evergreen Line Joint Service Agreement

Filing Party: Wayne R. Rohde, Esq.; Cozen O'Connor; 1627 I Street NW. Suite 1100; Washington, DC 20006.

Synopsis: The amendment revises the duration of the agreement, deletes Costa Rica from the agreement's scope, and adds a force majeure clause.

Agreement No.: 012227.

Title: Simatech/Maersk Line Space Charter Agreement.

Parties: Simatech Americas, Inc. and A.P. Moller-Maersk A/S trading under the name Maersk Line.

Filing Party: Wayne R. Rohde, Esq.; Cozen O'Connor; 1627 I Street NW. Suite 1100; Washington, DC 20006.

Synopsis: The agreement authorizes Simatech to charter space to Maersk Line in the trade between Guatemala and Honduras, on the one hand, and Miami, FL, on the other hand.

Agreement No.: 012154-001.

Title: APL/Hamburg Süd Space Charter Agreement.

Parties: APL Co. Pte, Ltd. and American President Lines, Ltd. (acting as one party); and Hamburg Süd KG

Filing Party: Wayne R. Rohde, Esq.; Cozen O'Connor; 1627 I Street NW. Suite 1100; Washington, DC 20006.

Synopsis: The amendment authorizes APL to provide Hamburg Süd with space on alternative services operated by APL in the event that the PS1 service is suspended or terminated, amends the geographic to allow for such alternative services, and extends the Agreement until March 31, 2014.

Agreement No.: 012228.

Title: COSCON/“K” Line/WHS Space Charter and Sailing Agreement.

Parties: COSCO Container Lines Co. Ltd.; Kawasaki Kisen Kaisha, Ltd.; and Wan Hai Lines (Singapore) PTE Ltd.

Filing Party: Robert B.Yoshitomi, Esq.; Nixon Peabody LLP; 555 West Fifth Street, 46th Floor; Los Angeles, CA 90013.

Synopsis: The agreement authorizes the parties to share vessels and exchange slots in the trade between The People's Republic of China (including Hong Kong), and the Pacific Coast of the U.S. and Canada.

Agreement No.: 201221.

Title: Seattle Marine Terminal Operators/Port of Seattle Discussion Agreement.

Parties: Port of Seattle; Eagle Marine Services, Ltd.; SSA Terminals, LLC; SSA Terminals (Seattle), LLC; and Total Terminals, International, LLC.

Filing Party: Eric C. Jeffrey, Esq; Goodwin Proctor, LLP; 901 New York Avenue NW.; Washington, DC 20001

Synopsis: The agreement authorizes the parties to discuss, exchange information, and agree upon a range of matters at the Port, for the purpose of developing ways to maintain the competitiveness of the Port, and to improve service, reduce costs, increase efficiency, and otherwise optimize conditions at the Port.

By Order of the Federal Maritime Commission.
Dated: October 21, 2013.
Karen V. Gregory,
Secretary.

[FR Doc. 2013-25021 Filed 10-23-13; 8:45 am]

BILLING CODE 6730-01-P